DEPARTMENT OF LABOR

Proposed Information Collection Extension Without Change for Forms Relating to the Standard Center Job Corps Request for Proposal, and Related Contractor Information Gathering and Reporting Requirements (OMB Control Number 1206-0219): Comment Request

AGENCY: Office of Job Corps.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Job Corps is soliciting comments concerning the collection of data for forms relating to the standard contractor information gathering and reporting requirements (OMB Control Number 1206-0219).

A copy of the proposed information collection request (ICR) can be obtained by contacting the office listed below in the addressee section of this notice or by accessing: http://www.doleta.gov/OMBCN/OMBControlNumber.cfm.

DATES: Written comments must be submitted to the office listed in the addressee's section below on or before March 31, 2009.

ADDRESSES: Submit written comments to Marsha Fitzhugh, Room N-4507 Office of Job Corps, 200 Constitution Avenue, NW., Washington, DC 20210. Telephone number: 202-693-3099 (this is not a toll-free number). Fax: 202-693-2764. E-mail: fitzhugh.marsha@dol.gov.

SUPPLEMENTARY INFORMATION: I. Background: Job Corps is an intensive, residential training program for at-promise youth age 16 through 24 to address multiple barriers to employment faced by youth throughout the United States. Job Corps is authorized by Title I, Subtitle C, of the Workforce Investment Act (WIA) of 1998. The program is principally carried out through a nationwide network of 122 Job Corps centers. The centers are located at facilities either owned or leased by the Federal Government. The Department has a direct role in the operation of Job Corps, and does not serve as a pass-through agency for this program. It is the Department's responsibility to establish Job Corps centers and to select operators for them. Of the 122 current centers, 28 are operated by the Departments of Agriculture and the Interior, through interagency agreements. These centers are located on Federal lands controlled by these two agencies. The remaining 94 centers are managed and operated by large and small corporations and nonprofit organizations selected by the Department in accordance with the Federal Acquisition Regulations, and in most cases through a competitive procurement process. Many of the current contractors manage and operate more than one center.

II. Review Focus: The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions: The Request for Proposal (RFP) provides potential offerors with the Government's expectations for the development of proposals to operate Job Corps centers. The proposals developed by offerors in response to the RFP are evaluated in terms of technical factors and costs. These proposals serve as the principal basis for selection of a successful offeror. The operation of the Job Corps program is such that many activities required of contractors must be coordinated with other organizations, both Federal and nonfederal. Most of the information collection requirements of Job Corps center operators stem directly from operational needs or are necessary to ensure compliance with Federal requirements and the terms of the contract. Statistical reports are normally generated from source documents directly by the Federal Government, not the contractors. Data is entered directly into a database and reports are generated as a result of the data. Examples of these are ETA Forms 2110 (Center Financial Report), 2181 & 2181A (Center Operations Budget), 6-127 (Job Corps Utilization Summary), 6-131A (Disciplinary Discharge), 6-131B (Review Board Hearings), 6-131C (Rights to Appeal), 6-40 (Student Profile), 6-61 (Notice of Termination) and 3-38 (Property Inventory Transcription.) In addition, several forms are provided in Portable Data File (PDF) format. These forms are the 6-125 (Job Corps Health Staff Activity), 6-128 (Job Corps Health Annual Service Costs), 6-112 (Immunization Record), 6-135 (CM Health Record Envelope), 6-136 (CM Health Record Folder), 6-37 (Inspection Residential & Educational Facilities), 6-38 (Inspection Water Supply Facilities), and 6-39 (Inspection of Waste Treatment Facilities Costs).

Type of Review: Extension without Change.

Agency: Office of the Secretary, U.S. Department of Labor.

Title: Standard Center Job Corps Request for Proposal, and Related Contractor Information Gathering Reporting Requirements.

OMB Number: 1205-0219.

Recordkeeping: Center operators are required to keep accurate records on each Job Corps student. All records are required to be maintained on center for five years.

Affected Public: Business, for profit and not-for-profit institutions, and Tribal Governments.

The annual burden hours estimated for the preparation of the Standard Center Job Corps Request for Proposal submitted by new and experienced contractors is 15,300 hours.

Data collection for the Center Financial and the Center Operations Budget Reports is made more than quarterly, and is essential to ensure contractor financial compliance with contractual requirements and to ensure orderly operations of the program.

Required activity | ETA form No. | Number of respondents | Submissions per year | Total annual submissions | Hours per submission | Total burden hours
Center Financial Report | 2110 | 122 | 90 at 12/year 28 at 4/year | 1240 | 1 | 1240
Center Operations | 2181/h | 94 | 3 | 282 | 1 | 282
Budget | 2181/A
Total |  |  |  |  |  | 1,522

Center staff enter data utilizing a personal computer that transmits the data electronically to a centralized database. From this database many management and performance reports are created.

Required activity | ETA form No. | Number of respondents | Submissions per year | Total annual submissions | Hours per submission | Total burden hours
Job Corps Utilization Summary | 6-127 | 122 | 12 | 1,464 | 0.01875 (1 minute) | 24
Disciplinary Discharge | 6-131A | 1,500 | 1 | 1,500 | 0.01875 | 25
Review Board Hearings | 6-131B | 1,500 | 1 | 1,500 | 0.01875 | 25
Rights to Appeal | 6-131C | 1,500 | 1 | 1,500 | 0.01875 | 25
Student Profile | 6-40 | 1,500 | 1 | 1,500 | 0.01875 | 25
Notice of Termination | 6-61 | 1,500 | 1 | 1,500 | 0.01875 | 25
Property Inventory Transcription | 3-28 | 126 | 52 | 6,552 | 0.0275 (3 minutes) | 328
Total |  |  |  |  |  | 477

Student personnel requirements such as: Student payroll information, student training and education courses received, student leave, disciplinary actions and medical information are also collected in an electronic information system. The initial data entry is maintained in the national database and used for multiple reporting purposes, therefore reducing the need to enter the data more than once. The total burden associated with the input of data to data screens is 20,347 hours.

Major record keeping and operational forms listed below that pertain to student and facility administrative matters are provided in Portable Data Files or PDF forms. The total burden for processing these forms is 37,648 hours.

Required activity | ETA form No. | Number of respondents | Submissions per year | Total annual submissions | Hours per submission | Total burden hours
Job Corps Health Staff Activity | 6-125 | 112 | 1 | 112 | 0.25 (25 min) | 51
Job Corps Health Annual Service Costs | 6-128 | 112 | 1 | 112 | 0.25 | 51
Immunization Record | 6-112 | 71,000 | 1 | 71,000 | 0.05 (5 min) | 5,917
CM Health Record Envelope | 6-135 | 71,000 | 1 | 71,000 | 0.125 (13 min) | 15,383
CM Health Record Folder | 6-136 | 71,000 | 1 | 71,000 | 0.125 | 15,383
Inspection of Residential & Educational Facilities | 6-37 | 122 | 4 | 488 | 0.5 | 41
Inspection of Waste Treatment Facilities Costs | 6-39 | 23 | 4 | 92 | 1.25 (1 hr. 25 min) | 130
Inspection Water Supply Facilities | 6-38 | 122 | 4 | 488 | 1.25 | 693
Total |  |  |  |  |  | 36,648

A total of 7,578 burden hours are estimated for the preparation of the Center Operating Plans listed below that are required for the operation of a Job Corps center.

Required activity | ETA form No. | Number of respondents | Submissions per year | Total annual submissions | Hours per submission | Total burden hours
Center Operation Plan |  | 90 | 1 | 90 | 30 | 2820
Maintenance |  | 122 | 1 | 122 | 5 | 610
C/M Welfare |  | 122 | 1 | 122 | 2 | 244
Annual VST |  | 122 | 1 | 122 | 24 | 2928
Annual Staff Training |  | 122 | 1 | 122 | 1 | 122
Energy Conservation |  | 122 | 1 | 122 | 5 | 610
Outreach |  | 122 | 1 | 122 | 2 | 244
Total |  |  |  |  |  | 7,578

Total Estimated Burden: 62,525 hours.

Total Burden Cost (Capital/Startup): The Office of Job Corps has automated the data collection process for its centers. The Center Information System allows all centers to directly input data into a national database. The maintenance cost associated with the system is estimated to be $2.7 million a year for hardware and software.

Total Burden Cost (Operating/Maintaining): The costs to contractors for accomplishing record keeping requirements are computed by the Federal Government annually. While precise costs cannot be identified, at the present time and based on past experience, the annual related costs for contractor staff are estimated to be $968,834, which represents an average cost of $15.12 per hour.

Comments submitted in response to this comment request will be summarized and/or included in the request for Office of Management and Budget approval of the information collection request; they will also become a matter of public record.

Dated: January 13, 2009.
Esther R. Johnson,
Administrator, Office of Job Corps.

[FR Doc. E9-2025 Filed 1-29-09; 8:45 am]

BILLING CODE 4510-FT-P